DEPARTMENT OF COMMERCE

National Oceanic and Atmospheric Administration

RIN 0648-XA185

Marine Mammals; File No. 15274

AGENCY: National Marine Fisheries Service (NMFS), National Oceanic and Atmospheric Administration (NOAA), Commerce.

ACTION: Notice; receipt of application.

SUMMARY: Notice is hereby given that Dan Salden, Ph.D., Hawaii Whale Research Foundation, 52 Cheshire Drive, Maryville, IL 62062, has applied in due form for a permit to conduct research on humpback whales (Megaptera novaeangliae).

DATES: Written, telefaxed, or e-mail comments must be received on or before March 2, 2011.

ADDRESSES: The application and related documents are available for review by selecting “Records Open for Public Comment” from the Features box on the Applications and Permits for Protected Species (APPS) home page, https://apps.nmfs.noaa.gov, and then selecting File No. 15274 from the list of available applications.

These documents are also available upon written request or by appointment in the following offices:

Permits, Conservation and Education Division, Office of Protected Resources, NMFS, 1315 East-West Highway, Room 13705, Silver Spring, MD 20910; phone (301)713-2289; fax (301)713-0376;

Alaska Region, NMFS, P.O. Box 21668, Juneau, AK 99802-1668; phone (907)586-7221; fax (907)586-7249; and

Pacific Islands Region, NMFS, 1601 Kapiolani Blvd., Rm 1110, Honolulu, HI 96814-4700; phone (808)944-2200; fax (808)973-2941.

Written comments on this application should be submitted to the Chief, Permits, Conservation and Education Division, at the address listed above. Comments may also be submitted by facsimile to (301)713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Joselyd Garcia-Reyes or Carrie Hubard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a permit to conduct passive acoustics, underwater photography and videography, photo-identification surveys, and to collect sloughed skin to study humpback whales, Hawaiian Insular false killer whales (Pseudorca crassidens), and non-ESA listed cetaceans around the waters of Hawaii, primarily Kona Coast and Maui County near-Lanai waters, Kalohi Channel, and Pailolo Channel. Research would also occur in Southeast Alaska and Kachemak Bay area when platforms become available. Up to 3000 humpback whales and 150 Hawaiian Insular false killer whales could be harassed each year during photo-identification surveys. Additionally, false killer whales, killer whales (Orcinus orca), short-finned pilot whales (Globicephala macrorhynchus), bottlenose dolphins (Tursiops truncatus), spinner dolphins (Stenella longirostris), and pantropical spotted dolphins (Stenella attenuata) may be harassed. See the application for specific take numbers by species. The purposes of the proposed research are to: (1) Continue and expand a study of humpback whales, (2) examine the role and function of competitive groups as they relate to the mating system of humpback whales, (3) study the life histories of known individual humpback whales, and (4) opportunistically study the stock structure, life history parameters (reproductive rates, mortality, etc.) and abundance of other cetaceans. The permit would be valid for a period of five years.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: January 25, 2011.
P. Michael Payne,
Chief, Permits, Conservation and Education Division, Office of Protected Resources, National Marine Fisheries Service.

[FR Doc. 2011-2066 Filed 1-28-11; 8:45 am]

BILLING CODE 3510-22-P